DEPARTMENT OF ENERGY

Federal Energy Regulatory Commission

[Docket No. EL15-15-000]

PJM Interconnection, L.L.C.; Notice of Initiation of Proceeding and Refund Effective Date

On November 20, 2014, the Commission issued an Order to Show Cause in Docket No. EL15-15-000, initiating a proceeding pursuant to section 206 of the Federal Power Act (FPA), 16 U.S.C. 824e (2012), directing PJM Interconnection, L.L.C. to either revise its Open Access Transmission Tariff to provide that a generation or non-generation resource owner will no longer receive reactive power capability payments after it has deactivated its unit and to clarify the treatment of reactive power capability payments for units transferred out of a fleet; or show cause why it should not be required to do so. PJM Interconnection, L.L.C., 149 FERC ¶ 61,132 (2014).

The refund effective date in Docket No. EL15-15-000, established pursuant to section 206(b) of the FPA, will be the date of publication of this notice in the Federal Register.

Dated: November 20, 2014.
Kimberly D. Bose,
Secretary.

[FR Doc. 2014-28024 Filed 11-25-14; 8:45 am]

BILLING CODE 6717-01-P